DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 23, 2004.

Interested persons are invited to submit written comments regarding the subject matter of the investigations to the Director, Division of Trade Adjustment Assistance, at the address shown below, not later than August 23, 2004.

The petitions filed in this case are available for inspection at the Office of the Director, Division of Trade Adjustment Assistance, Employment and Training Administration, U.S. Department of Labor, Room C-5311, 200 Constitution Avenue, NW., Washington, DC 20210.

Signed at Washington, DC this 29th day of July, 2004.
Timothy Sullivan,
Director, Division of Trade Adjustment Assistance.

Petitions Instituted Between 07/19/2004 and 07/23/2004
TA-W | Subject firm (petitioners) | Location | Date of institution | Date of petition
55,269 | Meridian Automotive Systems, Inc. (Comp) | Lenior, NC | 07/19/2004 | 07/16/2004
55,270 | Niagara Mohawk/National Grid Co., U.K. (NY) | Batavia, NY | 07/19/2004 | 06/28/2004
55,271 | P and R Sewing (Comp) | Moosic, PA | 07/19/2004 | 07/13/2004
55,272 | RBX Industries, Inc. (Comp) | Roanoke, VA | 07/19/2004 | 06/28/2004
55,273 | Am-Safe Commercial Products (Comp) | Tempe, AZ | 07/19/2004 | 07/16/2004
55,274 | Kamco Plastics Galesburg Warehouse (NPC) | Galesburg, IL | 07/19/2004 | 07/16/2004
55,275 | Teledyne Relays (CA) | Hawthorne, CA | 07/19/2004 | 07/16/2004
55,726 | Temple-Inland (Comp) | Mishawaka, IN | 07/19/2004 | 07/16/2004
55,277 | Carhartt Midwest (Wkrs) | Madisonville, KY | 07/19/2004 | 07/16/2004
55,278 | Agilent Technologies (Wkrs) | Loveland, CO | 07/20/2004 | 07/19/2004
55,279 | Telect, Inc. (Comp) | Liberty Lake, WA | 07/20/2004 | 07/19/2004
55,280 | Cooper Standard (AR) | El Dorado, AR | 07/20/2004 | 07/20/2004
55,281 | Dan River Factory Stores (GA) | Commerce, GA | 07/20/2004 | 07/20/2004
55,282 | Haworth, Inc. (AR) | Jonesboro, AR | 07/20/2004 | 07/16/2004
55,283 | GTC International (Wkrs) | Bedford Park, IL | 07/20/2004 | 07/13/2004
55,284 | Moline Machinery Ltd. (Union) | Duluth, MN | 07/20/2004 | 07/20/2004
55,285 | Seagate Technology, Inc. (MN) | Bloomington, MN | 07/21/2004 | 07/20/2004
55,286 | Conex Cable, Inc. (Comp) | Dublin, CA | 07/21/2004 | 07/16/2004
55,287 | Marconi (Comp) | Toccoa, GA | 07/21/2004 | 07/20/2004
55,288 | Center Manufacturing (Wkrs) | Williamsport, PA | 07/21/2004 | 06/28/2004
55,289 | GE Inspection Technologies (Wkrs) | Lewistown, PA | 07/21/2004 | 07/21/2004
55,290 | Butler Manufacturing Co. (USWA) | Galesburg, IL | 07/22/2004 | 07/16/2004
55,291 | Uretech, Inc. (USWA) | Luckey, OH | 07/22/2004 | 06/22/2004
55,292 | Thomasville Furniture, Inc. (Wkrs) | Statesville, NC | 07/22/2004 | 07/15/2004
55,293 | Sunrise Medical HHG (Wkrs) | Avon Lake, OH | 07/22/2004 | 07/21/2004
55,294 | GE Electric (Wkrs) | Ravenna, OH | 07/22/2004 | 07/16/2004
55,295 | Teletech Holding, Inc. (Wkrs) | Los Angeles, CA | 07/22/2004 | 07/07/2004
55,296 | Automatic Machine and Tool Co. (Comp) | Cedartown, GA | 07/22/2004 | 07/05/2004
55,297 | Superior Technical Resources (ME) | Waldoboro, ME | 07/22/2004 | 06/22/2004
55,298 | Hewitt Soap Co. (IUE-CW) | Dayton, OH | 07/22/2004 | 07/06/2004
55,299 | Gould Electronics, Inc. (Wkrs) | Eastlake, OH | 07/22/2004 | 07/13/2004
55,300 | Taylortec, Inc. (Wkrs) | Hammond, LA | 07/22/2004 | 07/01/2004
55,301 | BancTec-Plexus (Wkrs) | Santa Clara, CA | 07/22/2004 | 07/15/2004
55,302 | Olsonite Corporation (Unite) | Newnan, GA | 07/22/2004 | 07/21/2004
55,303 | Correctional Billing Services (NPW) | Selma, AL | 07/23/2004 | 07/21/2004
55,304 | Seagate Technology Inc. (MN) | Bloomington, MN | 07/23/2004 | 07/22/2004
55,305 | Tredegar Film Products (NC) | New Bern, NC | 07/23/2004 | 07/22/2004
55,306 | Elastic Corporation of America, Inc. (Comp) | Columbiana, AL | 07/23/2004 | 07/20/2004
55,307 | Dorsey Trailers (AL) | Elba, AL | 07/23/2004 | 07/20/2004
55,308A | Candor Hosiery Mills, Inc. (Comp) | Biscoe, NC | 07/23/2004 | 07/22/2004
55,308 | Candor Hosiery Mills, Inc. (Comp) | Troy, NC | 07/23/2004 | 07/22/2004
55,309 | Dimon Incorporated (Comp) | Danville, VA | 07/23/2004 | 07/22/2004
55,310 | EV Benefits/North Am Benefits Network (Wkrs) | Columbia, OH | 07/23/2004 | 07/22/2004
55,311 | Butler MFG Co/Bluescope Steel (USWA) | Galesburg, IL | 07/23/2004 | 07/16/2004
55,312 | Clear-com Communications System (Wkrs) | Emeryville, CA | 07/23/2004 | 07/12/2004

[FR Doc. 04-18323 Filed 8-10-04; 8:45 am]

BILLING CODE 4510-30-M